DEPARTMENT OF DEFENSE

Office of the Secretary

32 CFR Part 310

[Docket ID: DOD-2018-OS-0008]

RIN 0790-AJ20

Department of Defense Privacy Program; Correction

AGENCY: Department of Defense.

ACTION: Final rule; correction.

SUMMARY: The Department of Defense is correcting a final rule that appeared in the Federal Register on April 11, 2019. The document issued a final rule revising its Privacy regulation to implement the Privacy Act of 1974, as amended. This part establishes and promotes uniformity in the DoD Privacy Program, creating a single privacy rule for the Department, while incorporating other administrative changes. It takes precedence over all DoD component publications that supplement and implement the DoD Privacy program.

DATES: This final rule correction is effective on May 13, 2019.

FOR FURTHER INFORMATION CONTACT: Cindy Allard, (703) 571-0086.

SUPPLEMENTARY INFORMATION: In FR Doc. 2019-3971 appearing at 84 FR 14728-14811 in the Federal Register of Thursday, April 11, 2019, the following corrections are made:

§ 310.21 [Corrected]

1. On page 14778, in the first column, in § 310.21, in paragraph (c)(7)(i), “(i) Authority” is corrected to read “(ii) Authority”.

§ 310.26 [Corrected]

2. On page 14788, in the second column, in § 310.26, the paragraph designation “(4)” is corrected to read “(3)”, correctly designating the paragraph as (d)(3).

3. On page 14789, in the first column, in § 310.26, the paragraph designation “(5)” is corrected to read “(4)” correctly designating the paragraph as (d)(4).

4. On page 14789, in the third column, in § 310.26, the paragraph designation “(6)” is corrected to read “(5)”, correctly designating the paragraph as (d)(5).

5. On page 14790, in the second column, in § 310.26, the paragraph designation “(7)” is corrected to read “(6)”, correctly designating the paragraph as (d)(6).

6. On page 14790, in the second column, in § 310.26, the paragraph designation “(8)” is corrected to read “(7)”, correctly designating the paragraph as (d)(7).

§ 310.28 [Corrected]

7. On page 14801, in the third column, in § 310.28, in paragraph (c)(6)(ii), “(ii) Reasons” is corrected to read “(iii) Reasons”.

Dated: April 12, 2019.
Aaron T. Siegel,
Alternate OSD Federal Register Liaison Officer, Department of Defense.

[FR Doc. 2019-07698 Filed 4-17-19; 8:45 am]

BILLING CODE 5001-06-P